DEPARTMENT OF COMMERCE

International Trade Administration

[A-570-848]

Freshwater Crawfish Tail Meat From the People's Republic of China: Initiation of Antidumping Duty New Shipper Reviews

AGENCY: Enforcement and Compliance, formerly Import Administration, International Trade Administration, Department of Commerce.

DATES: Effective Date: November 14, 2013.

SUMMARY: The Department of Commerce (Department) has determined that requests for new shipper reviews of the antidumping duty order on freshwater crawfish tail meat (crawfish) from the People's Republic of China (PRC), meet the statutory and regulatory requirements for initiation. The period of review (POR) for these new shipper reviews is September 1, 2012, through August 31, 2013.¹

¹ See 19 CFR 351.214(g)(1)(i)(A).

FOR FURTHER INFORMATION CONTACT: Bryan Hansen, AD/CVD Operations Office I, Enforcement and Compliance, International Trade Administration, U.S. Department of Commerce, 14th Street and Constitution Avenue NW., Washington, DC 20230; Telephone: (202) 482-3683.

SUPPLEMENTARY INFORMATION:

Background

The antidumping duty order on crawfish from the PRC published in the Federal Register on September 15, 1997.² Pursuant to section 751(a)(2)(B)(i) of the Tariff Act of 1930, as amended (the Act), we received timely requests for new shipper reviews of the order from Hubei Nature Agriculture Industry Co., Ltd. (Hubei Nature) ³ and Hubei Zhenghe Food Co., Ltd. (Hubei Zhenghe).⁴ Each company certified that it is both the producer and exporter of the subject merchandise upon which the request was based.⁵

² See Notice of Final Determination of Sales at Less Than Fair Value: Freshwater Crawfish Tail Meat From the People's Republic of China, 62 FR 41347 (August 1, 1997), as amended by Notice of Amendment to Final Determination of Sales at Less Than Fair Value and Antidumping Duty Order: Freshwater Crawfish Tail Meat From the People's Republic of China, 62 FR 48218 (September 15, 1997).

³ See Hubei Nature's new shipper request dated September 18, 2013.

⁴ See Hubei Zhenghe's new shipper request dated September 30, 2013.

⁵ See Hubei Nature's new shipper request at Exhibit 2 and Hubei Zhenghe's new shipper request at Exhibit 1.

Pursuant to section 751(a)(2)(B)(i)(I) of the Act and 19 CFR 351.214(b)(2)(i), Hubei Nature and Hubei Zhenghe each certified that it did not export subject merchandise to the United States during the period of investigation (POI).⁶ In addition, pursuant to section 751(a)(2)(B)(i)(II) of the Act and 19 CFR 351.214(b)(2)(iii)(A), Hubei Nature and Hubei Zhenghe each certified that, since the initiation of the investigation, it has never been affiliated with any exporter or producer who exported subject merchandise to the United States during the POI, including those respondents not individually examined during the POI.⁷ As required by 19 CFR 351.214(b)(2)(iii)(B), Hubei Nature and Hubei Zhenghe also certified that their export activities were not controlled by the government of the PRC.⁸

⁶ Id.

⁷ Id.

⁸ Id.

In addition to the certifications described above, pursuant to 19 CFR 351.214(b)(2), Hubei Nature and Hubei Zhenghe each submitted documentation establishing the following: (1) The date on which it first shipped subject merchandise for export to the United States; (2) the volume of its first shipment; and (3) the date of its first sale to an unaffiliated customer in the United States.⁹

⁹ Hubei Nature's new shipper request at Exhibit 1 and Hubei Zhenghe's new shipper request at Exhibit 2.

Initiation of New Shipper Review

Pursuant to section 751(a)(2)(B) of the Act and 19 CFR 351.214(d)(1), the Department finds that the requests from Hubei Nature and Hubei Zhenghe meet the threshold requirements for initiation of new shipper reviews for shipments of crawfish from the PRC produced and exported by Hubei Nature and produced and exported by Hubei Zhenghe.¹⁰

¹⁰ See the memoranda to the file entitled “Freshwater Crawfish Tail Meat from the People's Republic of China: Initiation Checklist for Antidumping Duty New Shipper Review of Hubei Nature Agriculture Industry Co., Ltd.” and “Freshwater Crawfish Tail Meat from the People's Republic of China: Initiation Checklist for Antidumping Duty New Shipper Review of Hubei Zhenghe Food Co., Ltd.” dated concurrently with this notice.

The Department intends to issue the preliminary results of these reviews no later than 180 days from the date of initiation and final results of these reviews no later than 90 days after the date the preliminary results are issued.¹¹ It is the Department's usual practice, in cases involving non-market economy countries, to require that a company seeking to establish eligibility for an antidumping duty rate separate from the country-wide rate provide evidence of de jure and de facto absence of government control over the company's export activities. Accordingly, we will issue a questionnaire to Hubei Nature and Hubei Zhenghe which will include a section requesting information concerning their eligibility for a separate rate. The new shipper review of Hubei Nature will be rescinded if the Department determines that Hubei Nature has not demonstrated that it is eligible for a separate rate. Likewise, the new shipper review of Hubei Zhenghe will be rescinded if the Department determines that Hubei Zhenghe has not demonstrated that it is eligible for a separate rate.

¹¹ See section 751(a)(2)(B)(iv) of the Act.

We will instruct U.S. Customs and Border Protection to allow, at the option of the importer, the posting, until the completion of the review, of a bond or security in lieu of a cash deposit for each entry of the subject merchandise from Hubei Nature and Hubei Zhenghe in accordance with section 751(a)(2)(B)(iii) of the Act and 19 CFR 351.214(e). Because each company certified that it produced and exported subject merchandise, the sale of which is the basis for the requests for new shipper reviews, we will apply the bonding privilege to Hubei Nature and Hubei Zhenghe only for subject merchandise which were produced and exported by Hubei Nature and produced and exported by Hubei Zhenghe.

To assist in its analysis of the bona fides of these two companies' sales, upon initiation of this new shipper review, the Department will require them to submit on an ongoing basis complete transaction information concerning any sales of subject merchandise to the United States that were made subsequent to the POR.

Interested parties requiring access to proprietary information in these new shipper reviews should submit applications for disclosure under administrative protective order in accordance with 19 CFR 351.305 and 351.306. This initiation and notice are published in accordance with section 751(a)(2)(B) of the Act and 19 CFR 351.214 and 351.221(c)(1)(i).

Dated: November 6, 2013.
Christian Marsh,
Deputy Assistant Secretary for Antidumping and Countervailing Duty Operations.

[FR Doc. 2013-27312 Filed 11-13-13; 8:45 am]

BILLING CODE 3510-DS-P